Title 3—

The President

Proclamation 9917 of August 30, 2019

National Alcohol and Drug Addiction Recovery Month, 2019

By the President of the United States of America

A Proclamation

During National Alcohol and Drug Addiction Recovery Month, we raise awareness of substance use disorder and celebrate the millions of Americans who have successfully overcome addiction. Their stories of healing and redemption are a source of hope and encouragement to others battling addiction.

Addiction to alcohol, opioids, and illicit drugs is a public health emergency. For this reason, I have taken aggressive action to combat the scourge of addiction and help those affected by it. My Initiative to Stop Opioid Abuse and Reduce Drug Supply and Demand is designed both to reduce the demand for drugs through education, awareness, and the prevention of over-prescription and to cut off the flow of drugs across our borders. The Substance Use-Disorder Prevention that Promotes Opioid Recovery and Treatment (SUPPORT) for Patients and Communities Act, which I signed into law last year, is the single largest bill dedicated to combating the drug crisis ever passed in the history of our country. This law expands access to evidence-based treatment, protects our communities from illicit drugs, invests more in sustained recovery, brings those in treatment and recovery back into the workforce, and raises public awareness of the dangers of illicitly imported synthetic opioids. My Administration also secured more than $6 billion over 2 years to help Americans affected by addiction to opioids and other drugs have access to the care they need. And we continue working closely with States to waive overly restrictive Federal rules so they have more flexibility to develop and implement innovative solutions to this crisis.

Every American can work to end the crisis of alcohol and drug addiction in our country, which shatters relationships and erodes the strength of our communities. Countless first responders, healthcare professionals, counselors, recovery coaches, spiritual leaders, and volunteers help Americans every day to achieve and sustain recovery through their compassion and dedication. Equally important are the courageous individuals in recovery who have battled stigma, misunderstanding, and the disease of addiction to build a new life. Their struggles, lessons learned, and experiences gained on the road to recovery offer invaluable inspiration to all who fight addiction. Through The Crisis Next Door platform launched by the White House last year, Americans whose lives have been tormented by addiction can share their stories and provide a glimpse into the tragic consequences of substance use disorder and the hope, healing, and joy of lives reclaimed through recovery.

This month, we reaffirm our commitment to the critical battle against alcohol and drug addiction, remember the lives lost to this disease, and honor those in recovery. By helping those still struggling find the treatment they need and by welcoming home those who are recovering, we can make our communities and our Nation stronger, healthier, and more prosperous.

NOW, THEREFORE, I, DONALD J. TRUMP, President of the United States of America, by virtue of the authority vested in me by the Constitution and the laws of the United States, do hereby proclaim September 2019 as National Alcohol and Drug Addiction Recovery Month. I call upon the people of the United States to observe this month with appropriate programs, ceremonies, and activities.

IN WITNESS WHEREOF, I have hereunto set my hand this thirtieth day of August, in the year of our Lord two thousand nineteen, and of the Independence of the United States of America the two hundred and forty-fourth.

[FR Doc. 2019-19352

Filed 9-4-19; 11:15 am]

Billing code 3295-F9-P